COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and services to be furnished by nonprofit agencies employing persons who are blind or have other severe disabilities.

DATES: Effective Date: September 7, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: The Committee for Purchase From People Who Are Blind or Severely Disabled published notice on May 9 (73 FR 26362), June 6 (73 FR 32286), June 16 (73 FR 33972) and June 20, 2008 (73 FR 35118) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Aircraft Assembly Parts

NSN: 1560-00-870-1656—Cover Access,

NSN: 1560-00-875-6001—Support, Structural,

NSN: 1560-01-114-0870—Bracket Assembly,

NSN: 1560-01-153-9682—Weather Strip,

NSN: 5365-00-159-3781—Shim,

NSN: 5365-00-159-3792—Shim.

NPA: The Lighthouse for the Blind, Inc. (Seattle Lighthouse), Seattle, WA.

Coverage: C-List for the requirement of the Defense Supply Center Richmond, Richmond, VA.

Contracting Activity: Defense Supply Center Richmond, Richmond, VA.

Dispenser, Tape

NSN: 7520-00-NIB-1882—Package Sealing.

NPA: Cincinnati Association for the Blind, Cincinnati, OH.

Coverage: A-List for the total Government requirements as specified by the General Services Administration.

SKILCRAFT Bath & Shower Scrubber & Refill

NSN: M.R. 1101—SKILCRAFT Bath & Shower Scrubber,

NSN: M.R. 1102—SKILCRAFT Bath & Shower Scrubber (Refill).

NPA: Industries for the Blind, Inc., West Allis, WI.

Contracting Activity: Defense Commissary Agency (DeCA), Fort Lee, VA.

Sponge, Cellulose Heavy Duty Scrubber

NSN: 7920-00-NIB-0466.

NPA: Mississippi Industries for the Blind, Jackson, MS.

Coverage: B-List for the broad Government requirements as specified by the General Services Administration.

Contracting Activity: General Services Administration, Southwest Supply Center, Fort Worth, TX.

Portfolio, Clear Front Report Cover w/Prongs

NSN: 7510-00-NIB-0811—Black with prongs,

NSN: 7510-00-NIB-0812—Light Blue with prongs,

NSN: 7510-00-NIB-0813—Red with prongs,

NSN: 7510-00-NIB-0814—Dark Green with prongs.

NPA: Susquehanna Association for the Blind and Visually Impaired, Lancaster, PA.

Coverage: A-List for the total Government requirements as specified by the General Services Administration.

Services

Service Type/Location: Administrative Support Services, Caribbean National Forest, El Portal Rain Forest Center, Rio Grande, PR.

NPA: The Corporate Source, Inc., New York, NY.

Contracting Activity: U.S. Department of Agriculture, Forest Service Cherokee, National Forests—Tennessee, Cleveland, TN.

Service Type/Location: Base Supply Center, Naval Surface Warfare Center, Crane Division, Crane, IN.

NPA: L.C. Industries For The Blind, Inc., Durham, NC.

Contracting Activity: Fleet and Industrial Supply Center (FISC), Norfolk, VA.

Service Type/Location: Custodial Services, Senate Employee Child Care Center, 321 Massachusetts Avenue, NE., Washington, DC.

NPA: Melwood Horticultural Training Center, Upper Marlboro, MD.

Contracting Activity: The Architect of the Capitol, AOC Procurement Division, Washington, DC.

Service Type/Location: Document Destruction, U.S. Army Corps of Engineers (USACE), Albuquerque District, 4101 Jefferson Plaza, NE., Albuquerque, NM.

NPA: Adelante Development Center, Inc., Albuquerque, NM.

Contracting Activity: U.S. Army Corps of Engineers, Albuquerque, NM.

Service Type/Location: Document Destruction, U.S. Army Corps of Engineers (USACE), Albuquerque District, 4101 Jefferson Plaza, NE., Albuquerque, NM.

NPA: Adelante Development Center, Inc., Albuquerque, NM.

Contracting Activity: U.S. Army Corps of Engineers, Albuquerque, NM.

Service Type/Location: Hospital Housekeeping Services, Baltimore VA Medical Center, 10 North Green Street, Baltimore, MD.

NPA: Lakeview Center, Inc., Pensacola, FL.

Contracting Activity: Veterans Affairs Maryland Health Care System, Baltimore, MD.

Service Type/Location(s):

Laundry Services, Clement J. Zablocki Veterans Affairs Medical Center, 5000 West National Avenue, Milwaukee, WI.

Laundry Services, North Chicago Veterans Affairs Medical Center, 3001 Green Bay Road, North Chicago, IL.

NPA: Goodwill Industries of Southeastern Wisconsin, Inc., Milwaukee, WI.

Contracting Activity: Department of Veterans Affairs, Great Lakes Network—Contract Service Center, Milwaukee, WI.

Service Type/Location: MailRoom Operations, Fort Knox, Fort Knox, KY.

NPA: Employment Source, Inc., Fayetteville, NC.

Contracting Activity: U.S. Army Armor Center & Fort Knox, Fort Knox, KY.

Service Type/Location: MailRoom Operations, Internal Revenue Service, 880 Front Street, San Diego, CA.

NPA: ServiceSource, Inc., Alexandria, VA (PRIME Contractor).

NPA: Goodwill Industries of Southern California, Los Angeles, CA (Sub-Contractor).

Contracting Activity: U.S. Department of the Treasury, Internal Revenue Service Headquarters, Oxon Hill, MD.

Service Type/Location: MailRoom Operations, United States Coast Guard, Integrated Support Command (ISC), Alameda Mail Center, Alameda, CA.

NPA: Pacific Coast Community Services, Richmond, CA.

Contracting Activity: U.S. Coast Guard—Alameda, Alameda, CA.

Service Type/Location: Recycling Service (6 Locations)

Public Works Department (PWD) Washington, Washington, DC.

PWD Patuxent River, Patuxent River, MD.

PWD North Potomac, Bethesda, MD.

PWD Annapolis, Annapolis, MD.

PWD South Potomac, Indian Head, MD, and Dahlgren, VA.

PWD Quantico, Quantico, VA.

NPA: Melwood Horticultural Training Center, Upper Marlboro, MD.

Contracting Activity: Naval Facilities Acquisition Command (NAVFAC)—Washington, Washington, DC.

This action does not affect current contracts awarded prior to the effective date of this addition or options that may be exercised under those contracts.

Patrick Rowe,
Deputy Executive Director.

[FR Doc. E8-18363 Filed 8-7-08; 8:45 am]

BILLING CODE 6353-01-P